COMMISSION ON CIVIL RIGHTS

Notice of Public Meeting of the Iowa Advisory Committee to the U.S. Commission on Civil Rights

AGENCY: U.S. Commission on Civil Rights.

ACTION: Announcement of public meeting.

SUMMARY: Notice is hereby given, pursuant to the provisions of the rules and regulations of the U.S. Commission on Civil Rights (Commission) and the Federal Advisory Committee Act, that the Iowa Advisory Committee (Committee) to the U.S. Commission on Civil Rights will hold a public business meeting via Zoom on Thursday, October 17, 2024 from 3 p.m.-4 p.m. Central Time. The purpose of the meeting is for SAC members to debrief testimony and discuss next steps with the Committee.

DATES: Thursday, October 17, 2024, from 3 p.m.-4 p.m. Central Time.

ADDRESSES: The meeting will be held via Zoom.

October 17th Business Meeting

—Registration Link: https://www.zoomgov.com/webinar/register/WN_XL6XMg3aQuSRoQqiZRceiA

—Join by Phone (Audio Only) 1-833-435-1820 USA Toll Free: Meeting ID: 160 228 4537

FOR FURTHER INFORMATION CONTACT: Mallory Trachtenberg, Designated Federal Officer, at mtrachtenberg@usccr.gov or 1-202-809-9618.

SUPPLEMENTARY INFORMATION: This committee meeting is available to the public through the registration link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning will be available. To request additional accommodations, please email Corrine Sanders, Support Specialist, at csanders@usccr.gov at least 10 business days prior to the meeting.

Members of the public are entitled to submit written comments; the comments must be received in the regional office within 30 days following the meeting. Written comments may be emailed to Mallory Trachtenberg, mtrachtenberg@usccr.gov. Persons who desire additional information may contact the Regional Programs Coordination Unit at (202) 809-9618.

Records of the meetings will be available via www.facadatabase.gov under the Commission on Civil Rights, Iowa Advisory Committee link. Persons interested in the work of this Committee are directed to the Commission's website, http://www.usccr.gov, or may contact the Regional Programs Coordination Unit at mtrachtenberg@usccr.gov

Agenda

I. Welcome and Roll Call

II. Discussion: Testimony debrief

III. Public Comment

IV. Adjournment

During public comment, students who wish to respond to the Committee's study are welcome to share any comments. Questions the Committee is considering include:

• Are you aware of mental health services in your school?

• If you or someone you know needed mental health services, would you know who to go to in your school?

• Would you be comfortable accessing mental health services through your school? If not, why not?

• If you have used mental health services in the past, have you found them helpful? If not, why not?

• Is there anything else you would like the Iowa Advisory Committee to the US Commission on Civil Rights to know about your experience with accessing mental and behavioral healthcare in Iowa's K-12 schools?

Dated: October 2, 2024.
David Mussatt,
Supervisory Chief, Regional Programs Unit.

[FR Doc. 2024-23108 Filed 10-4-24; 8:45 am]

BILLING CODE P